DEPARTMENT OF LABOR

Employment and Training Administration

Notice of Determinations Regarding Eligibility to Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of May 1, 2020 through May 31, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely; AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services from a Foreign Country Path:

(i) (I) there has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,615 | Marketlink, Inc. dba Allied Global, Allied Global, LLC | Johnstown, PA | March 13, 2018.
95,045 | Pharmaceutics International, Inc., Medix, Augmentation | Hunt Valley, MD | March 2, 2020.
95,068 | Matthew Warren Spring, Plant 5, MW Industries, Inc., Peak Community Services | Logansport, IN | August 12, 2018.
95,080 | Celestial Softwear Inc., Lunar logic | Eugene, OR | August 15, 2018.
95,243 | Wholesome Harvest Baking, LLC, Bimbo Bakeries Inc., Grupo Bimbo, S.A.B. de C.V | Richmond, CA | October 1, 2018.
95,301 | Ball Metalpack, LLC, 1st Employment, Aerotek | Springdale, AR | October 18, 2018.
95,312 | US Synthetic Corporation, Apergy Corporation, Elwood Staffing | Orem, UT | October 21, 2018.
95,661 | OEMMCCO, Inc., Staffing Solutions | Kenosha, WI | February 5, 2019.

The following certifications have been issued. The requirements of Section 222(a)(2)(B) (Shift in Production or Services to a Foreign Country Path or Acquisition of Articles or Services from a Foreign Country Path) of the Trade Act have been met.

TA-W No. | Subject firm | Location | Impact date
94,715 | Zinus, Customer Service Division, Prologistix, Randstand | Tracy, CA | April 8, 2018.
94,717 | Zinus, Customer Service Division, Sheridan, Remedy | Summerville, SC | April 8, 2018.
95,300 | VML, LLC, Razor Holdings, TEK Systems, ECCO Select, RiverPoint, KForce, etc | Kansas City, MO | October 17, 2018.
95,432 | State Street Bank & Trust Co., Transfer Agency Division, State Street Corporation, ZeroChaos | North Quincy, MA | November 27, 2018.
95,543 | Rite Aid Headquarters Corporation, Technology Services Computer Operations, Rite Aid Corporation | Lancaster, CA | January 7, 2019.
95,586 | P&F Systems, a division of Dieomatic Incorporated, Magna International Inc | Auburn Hills, MI | January 21, 2019.
95,667 | Daimler Gastonia Components and Logistics LLC, Daimler AG | Gastonia, NC | March 10, 2019.
95,870 | Frontier Communications, Network Translations Organization Team, Frontier Communications Corporation | Rochester, NY | April 6, 20190.
95,918 | Vitro Flat Glass LLC, Meadville, Line 2 Production, Vitro Assets, M-Ploy Temporaries, Inc | Cochranton, PA | May 8, 2019.

The following certifications have been issued. The requirements of Section 222(b) (supplier to a firm whose workers are certified eligible to apply for TAA) of the Trade Act have been met.

TA-W No. | Subject firm | Location | Impact date
94,921 | North American Mold Technology LLC, Piedmont Precision Machine Co., Inc | Danville, VA | June 20, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
95,568 | Optum Technology, Enterprise Enablement Platform Services, IT Services Desk, etc | San Francisco, CA. |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,667 | Welspun Tubular, LLC, Welspun Pipes, Welspun Global Trade, Elite Workforce Management, etc | Little Rock, AR. |
95,477 | Concentrix CVG Corporation | Tampa, FL. |
95,626 | Thomas L. Cardella & Associates, Inc | Alamogordo, NM. |
95,652 | Tripwire, Inc., Belden Inc., Incedo, Inc | Portland, OR. |
95,684 | TCS e-Serve International Limited, Tata Consultancy Services, Aerotek, Kelly Services, TekSystems, etc | Cedar Rapids, IA. |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,886 | Times Fiber Communications, Amphenol Corporation | Chatham, VA. |
94,937 | Tech Mahindra Americas Inc. for AT&T, Production Validation Testing Team | Plano, TX. |
94,963 | Cablevision System NYC Corporation, Altice USA, Customer Care Center | Bethpage, NY. |
94,963A | Cablevision System NYC Corporation, Altice USA, Customer Care Center Supervisors | Jericho, NY. |
94,990 | Blackjewel L.L.C./Revelation Energy, LLC, Blackjewel Holdings L.L.C./Revelation Energy Holdings, LLC | Milton, WV. |
94,990A | Blackjewel L.L.C./Revelation Energy, LLC, Clover Loadout, Blackjewel Holdings L.L.C./Revelation Energy Holdings, LLC | Bledsoe, KY. |
94,990AA | Blackjewel L.L.C./Revelation Energy, LLC, Eagle Butte Mine, Blackjewel Holdings L.L.C./Revelation Energy Holdings | Gillette, WY. |
94,990B | Blackjewel L.L.C./Revelation Energy, LLC, Clover Lick Mine, Blackjewel Holdings L.L.C./Revelation Energy Holdings | Cumberland, KY. |
94,990BB | Blackjewel L.L.C./Revelation Energy, LLC, Belle Ayr Mine, Blackjewel Holdings L.L.C./Revelation Energy Holdings, LLC | Gillette, WY. |
94,990C | Blackjewel L.L.C./Revelation Energy, LLC, Panther Mine, Blackjewel Holdings L.L.C./Revelation Energy Holdings, LLC | Cumberland, KY. |
94,990CC | Blackjewel L.L.C./Revelation Energy, LLC, Sunny Knott Office, Blackjewel Holdings L.L.C./Revelation Energy Holdings | Lackey, KY. |
94,990D | Blackjewel L.L.C./Revelation Energy, LLC, F Seam Mine, Blackjewel Holdings L.L.C./Revelation Energy Holdings, LLC | Cumberland, KY. |
94,990DD | Blackjewel L.L.C./Revelation Energy, LLC, Andover Office, Blackjewel Holdings L.L.C./Revelation Energy Holdings, LLC | Appalachia, VA. |
94,990E | Blackjewel L.L.C./Revelation Energy, LLC, Cave Branch Prep Plant, Blackjewel Holdings/Revelation Energy Holdings | Cumberland, KY. |
94,990EE | Blackjewel L.L.C./Revelation Energy, LLC, Honaker Shop, Blackjewel Holdings L.L.C./Revelation Energy Holdings, LLC | Honaker, VA. |
94,990F | Blackjewel L.L.C./Revelation Energy, LLC, Clover Fork Mine, Blackjewel Holdings L.L.C./Revelation Energy Holdings | Evarts, KY. |
94,990G | Blackjewel L.L.C./Revelation Energy, LLC, Huff Creek Mine, Blackjewel Holdings L.L.C./Revelation Energy Holdings, LLC | Evarts, KY. |
94,990H | Blackjewel L.L.C./Revelation Energy, LLC, Kellioka Mine, Blackjewel Holdings L.L.C./Revelation Energy Holdings, LLC | Evarts, KY. |
94,990I | Blackjewel L.L.C./Revelation Energy, LLC, Shamrock Prep Plant, Blackjewel Holdings L.L.C./Revelation Energy Holdings | Helton, KY. |
94,990J | Blackjewel L.L.C./Revelation Energy, LLC, Cumberland River Surface Mine, Blackjewel Holdings L.L.C., etc. | Partridge, KY. |
94,990K | Blackjewel L.L.C./Revelation Energy, LLC, North Fork No. 6, Blackjewel Holdings L.L.C./Revelation Energy Holdings | Partridge, KY. |
94,990L | Blackjewel L.L.C./Revelation Energy, LLC, Beechfork Mine, Blackjewel Holdings L.L.C./Revelation Energy Holdings, LLC | Helton, KY. |
94,990M | Blackjewel L.L.C./Revelation Energy, LLC, Straight Creek Prep Plant, Blackjewel Holdings/Revelation Energy Holdings | Stoney Fork, KY. |
94,990N | Blackjewel L.L.C./Revelation Energy, LLC, Big Laurel, Blackjewel Holdings L.L.C./Revelation Energy Holdings, LLC | Appalachia, VA. |
94,990O | Blackjewel L.L.C./Revelation Energy, LLC, Pigeon Creek Processing, Blackjewel Holdings/Revelation Energy Holdings | Appalachia, VA. |
94,990P | Blackjewel L.L.C./Revelation Energy, LLC, Osaka Mine, Blackjewel Holdings L.L.C./Revelation Energy Holdings, LLC | Appalachia, VA. |
94,990Q | Blackjewel L.L.C./Revelation Energy, LLC, Flat Rock Prep Plant, Blackjewel Holdings/Revelation Energy Holdings | Honaker, VA. |
94,990R | Blackjewel L.L.C./Revelation Energy, LLC, Tiller #1 Mine, Blackjewel Holdings L.L.C./Revelation Energy Holdings, LLC | Jewell Ridge, VA. |
94,990S | Blackjewel L.L.C./Revelation Energy, LLC, Tiller #2 Mine, Blackjewel Holdings L.L.C./Revelation Energy Holdings, LLC | Jewell Ridge, VA. |
94,990T | Blackjewel L.L.C./Revelation Energy, LLC, 3446 Jewell Valley Road, Blackjewel Holdings/Revelation Energy Holdings | Jewell Ridge, VA. |
94,990U | Blackjewel L.L.C./Revelation Energy, LLC, Red Ash Mine, Blackjewel Holdings L.L.C./Revelation Energy Holdings, LLC | Jewell Ridge, VA. |
94,990V | Blackjewel L.L.C./Revelation Energy, LLC, Raven Dock, Blackjewel Holdings L.L.C./Revelation Energy Holdings, LLC | Raven, VA. |
94,990W | Blackjewel L.L.C./Revelation Energy, LLC, Lone Mountain Processing, Blackjewel Holdings/Revelation Energy Holdings | St. Charles, VA. |
94,990X | Blackjewel L.L.C./Revelation Energy, LLC, Tunnel Mine, Blackjewel Holdings L.L.C./Revelation Energy Holdings, LLC | St. Charles, VA. |
94,990Y | Blackjewel L.L.C./Revelation Energy, LLC, Pax Surface Mine, Blackjewel Holdings L.L.C./Revelation Energy Holdings | Scarbro, WV |
94,990Z | Blackjewel L.L.C./Revelation Energy, LLC, Central Distribution Center, Blackjewel Holdings/Revelation Energy Holdings | Gillette, WY. |
95,096 | Infor (US), Inc., Information Technology aka Business Innovation Department, Infor, Inc. | Saint Paul, MN. |
95,131 | Jewell Attachments, LLC, Paladin Brands Group, Inc., Aerotek, Kelly Services | Portland, OR. |
95,261 | CCU Coal and Construction, LLC, Corporate Office | Coshocton, OH. |
95,261A | CCU Coal and Construction, LLC, Buckingham Mine and Wash Plant | Glouster, OH. |
95,261B | CCU Coal and Construction, LLC, Bellaire Dock | Bellaire, OH. |
95,261C | CCU Coal and Construction, LLC, Shugert North Mine | Bethesda, OH. |
95,261D | CCU Coal and Construction, LLC, Buttermilk | Flushing, OH. |
95,261E | CCU Coal and Construction, LLC, Egypt Valley Wildlife Mine | Flushing, OH. |
95,261F | CCU Coal and Construction, LLC, Barb Tipple | Conesville, OH. |
95,261G | CCU Coal and Construction, LLC, Cadiz Office | Cadiz, OH. |
95,261H | CCU Coal and Construction, LLC, Sandy Ridge Mine | Cadiz, OH. |
95,261I | CCU Coal and Construction, LLC, Harrison Mine | Cadiz, OH. |
95,261J | CCU Coal and Construction, LLC, Ellis | Rayland, OH. |
95,261K | CCU Coal and Construction, LLC, Zanesville Warehouse | Zanesville, OH. |
95,261L | CCU Coal and Construction, LLC, Cannon | Crooksville, OH. |
95,261M | CCU Coal and Construction, LLC, New Lexington | New Lexington, OH. |
95,261N | CCU Coal and Construction, LLC, Avondale | Roseville, OH. |
95,261O | CCU Coal and Construction, LLC, Pero | East Canton, OH. |
95,261P | CCU Coal and Construction, LLC, Garrett | Gnadenhutten, OH. |
95,261Q | CCU Coal and Construction, LLC, Midvale Mine | New Philadelphia, OH. |
95,261R | CCU Coal and Construction, LLC, Strasburg Wash Plant, Shop, and Slurry Pit | Strasburg, OH. |
95,261S | CCU Coal and Construction, LLC, Muskie Train | Conesville, OH. |
95,261T | CCU Coal and Construction, LLC, Conesville Wash Plant | Conesville, OH. |
95,261U | CCU Coal and Construction, LLC, Hunt | Newcomerstown, OH. |
95,261V | CCU Coal and Construction, LLC, Harrah | Cadiz, OH. |
95,279 | Cisco System Inc. | Lawrenceville, GA. |
95,387 | Concentrix CVG Corporation | Heathrow, FL. |
95,429 | General Logistics Systems US, Inc., Operations Division, Delivery Driver Group, Robert Half International, etc. | San Ramon, CA. |
95,530 | Halliburton Energy Services, Inc., Halliburton Company | El Reno, OK. |
95,533 | The Semling-Menke Company, Inc., ABS Employment Group, QPS Employment Group | Merrill, WI. |
95,602 | Legacy Supply Chain Services, Tri-Starr Management Services, Surge Staffing, Diverse Staffing | Jeffersonville, IN. |
95,624 | PVH Corp. Warehouse, Logistic Services Division, PVH Corp. | Brinkley, AR. |
95,648 | Hexcel Corporation, Keltia Recruitment/Keltia Design, Kelly Services, Moseley Technical, etc. | Kent, WA. |
95,648A | Hexcel Corporation, Express Employment Professionals, TERRA Staffing Group | Burlington, WA. |
95,669 | CoxCom LLC, Cox Communications New England, Retail Sales, Atrium Staffing Services | West Warwick, RI. |
95,849 | Con-Vey, LLC, Con-Vey Holding, Inc., Elwood Staffing, Express Employment Professionals | Roseburg, OR. |
95,884 | Marvell Semiconductor, Inc., Marvell Technology Group, GlobalFoundries US, ASIC North, CYIENT, etc | Essex Junction, VT. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
95,853 | Oracle America, Oracle America Global Business Unit | Reston, VA. |
95,912 | Boilermakers Local 105 | Piketon, OH. |

The following determinations terminating investigations were issued in cases where the petition regarding the investigation has been deemed invalid.

TA-W No. | Subject firm | Location | Impact date
94,834 | EmblemHealth Services Co., LLC Inc., Provider Operations Department | New York, NY. |
95,783 | UnitedHealth Group, Corporate Affairs, Communications, Translations and Interpretation, etc. | Minnetonka, MN. |

The following determinations terminating investigations were issued because the worker group on whose behalf the petition was filed is covered under an existing certification.

TA-W No. | Subject firm | Location | Impact date
95,003 | API Technologies | Windber, PA. |
95,555 | SMX Staffing a/k/a Staff Management, Newel Brands, Rubbermaid Commercial Products | Winchester, VA. |
95,690 | Phoenix Technical Solutions, Inc. and Phoenix Laser Solutions, General Electric Company, GE Transportation Parts, Transportation Division | Erie, PA. |

I hereby certify that the aforementioned determinations were issued during the period of May 1, 2020 through May 31, 2020. These determinations are available on the Department's website https://www.doleta.gov/tradeact/petitioners/taa_search_form.cfm under the searchable listing determinations or by calling the Office of Trade Adjustment Assistance toll free at 888-365-6822.

Signed at Washington, DC, this 8th day of June 2020.
Hope D. Kinglock,
Certifying Officer, Office of Trade Adjustment Assistance.

[FR Doc. 2020-13966 Filed 6-26-20; 8:45 am]

BILLING CODE 4510-FN-P